TENNESSEE VALLEY AUTHORITY

Sunshine Act Meeting

Agency Holding the Meeting: Tennessee Valley Authority (Meeting No. 07-05).

Time and Date: 9 a.m. CDT, September 27, 2007, Huntsville Marriott, 5 Tranquility Base, Huntsville, Alabama 35805.

Agenda

Old Business

Approval of minutes of August 1, 2007, Board Meeting.

New Business

1. President's Report.

2. Report of the Finance, Strategy, and Rates Committee:

A. TVA annual budget for FY 2008.

B. Asset Retirement Obligations Trust.

C. Regulatory accounting changes.

D. Authorization to issue bonds.

E. Customer issues.

i. Extension of contract with a directly-served customer.

ii. New interruptible product—60-Minute Response program.

3. Report of the Operations, Environment, and Safety Committee:

A. Combined cycle project.

B. Bellefonte Combined Construction Permit & Operating License Application.

4. Report of the Human Resources Committee:

A. Winning Performance measures and balanced scorecard.

B. TVA Contribution to TVA Retirement System.

C. Award of contract for prescription drug benefits.

5. Report of the Audit and Ethics Committee:

A. Selection of external auditor.

6. Report of the Community Relations Committee.

7. Report of the Corporate Governance Committee:

A. Appointment of assistant secretary.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: September 20, 2007.
Maureen H. Dunn,
General Counsel and Secretary.

[FR Doc. 07-4736 Filed 9-21-07; 2:28 pm]

BILLING CODE 8120-08-P